DEPARTMENT OF THE TREASURY

Office of Foreign Assets Control

Notice of OFAC Sanctions Action

AGENCY: Office of Foreign Assets Control, Treasury.

ACTION: Notice.

SUMMARY: The U.S. Department of the Treasury's Office of Foreign Assets Control (“OFAC”) is updating the identifying information on its Specially Designated Nationals and Blocked Persons List (“SDN List”) for a person whose property and interests in property are blocked pursuant to Executive Order 13224 of September 23, 2001, “Blocking Property and Prohibiting Transactions With Persons Who Commit, Threaten To Commit, or Support Terrorism,” as amended by Executive Order 13886 of September 9, 2019, “Modernizing Sanctions to Combat Terrorism”.

DATES: See Supplementary Information section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On March 8, 2022, OFAC published the following revised information for the following person on OFAC's SDN List whose property and interests in property are blocked pursuant to Executive Order 13224, as amended.

Individual

1. SAADE, Ali (a.k.a. SAADE, Ali Moussa; a.k.a. SAADI, Ali), Beirut, Lebanon; DOB 18 May 1942; POB Conakry, Guinea; nationality Lebanon; Gender Male; Secondary sanctions risk: section 1(b) of Executive Order 13224, as amended by Executive Order 13886; Passport RL0420013 (Lebanon) expires 01 Mar 2015; alt. Passport 14205180170519 (Guinea) expires 29 May 2024; alt. Passport 18FV09784 (France) expires 06 Feb 2029 (individual) [SDGT] (Linked To: HIZBALLAH).

Dated: March 8, 2022.
Bradley T. Smith,
Deputy Director, Office of Foreign Assets Control, U.S. Department of the Treasury.

[FR Doc. 2022-05342 Filed 3-11-22; 8:45 am]

BILLING CODE 4810-AL-P